DEPARTMENT OF VETERANS AFFAIRS

Advisory Committee on Disability Compensation, Notice of Meeting Cancellation

The Department of Veterans Affairs (VA) gives notice under the Federal Advisory Committee Act, 5 U.S.C. Ch. 10, that the Advisory Committee on Disability Compensation, previously scheduled to be held on August 19 and August 20, 2025, has been cancelled.

For more information, please Jadine Piper, Designated Federal Officer, Veterans Benefits Administration, Compensation Service at 202-461-8459 or via email at 21C_ACDC.VBACO@va.gov.

Dated: July 31, 2025.
Jelessa M. Burney,
Federal Advisory Committee Management Officer.

[FR Doc. 2025-14777 Filed 8-4-25; 8:45 am]

BILLING CODE 8320-01-P